DEPARTMENT OF DEFENSE

Department of the Navy

Notice of Intent To Grant Exclusive Patent License; EnZinc, Inc.

AGENCY: Department of the Navy, DoD.

ACTION: Notice.

SUMMARY: The Department of the Navy hereby gives notice of its intent to grant to EnZinc, Inc., a revocable, nonassignable, exclusive license to practice in the field of use of a zinc electrode for use in a nickel-zinc battery for two- or three-wheeled electric vehicles; the field of use of a zinc electrode for use in a nickel-zinc battery for micro-grid energy storage; the field of use of a zinc electrode for use in a nickel-zinc battery in a start-stop vehicles; the field of use of a zinc electrode for use in a nickel-zinc battery for hybrid-electric vehicles; and the field of use of use of a zinc electrode for use in a nickel-zinc battery for electric vehicles having at least four wheels, in the United States, the Government-owned invention described in U.S. Patent Application No. 15/666,724: Zinc Electrodes for Batteries, Navy Case No. 102,137.//U.S. Patent Application No. 15/797,181: Zinc Electrodes for Batteries, Navy Case No. 102,137.// and any continuations, divisionals or re-issues thereof.

DATES: Anyone wishing to object to the grant of this license must file written objections along with supporting evidence, if any, not later than July 24, 2018.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644.

Due to U.S. Postal delays, please fax 202-404-7920, email: techtran@research.nrl.navy.mil or use courier delivery to expedite response.

(Authority: 35 U.S.C. 207, 37 CFR part 404)

Dated: June 29, 2018.
E.K. Baldini,
Lieutenant Commander, Judge Advocate General's Corps, U.S. Navy, Federal Register Liaison Officer.

[FR Doc. 2018-14684 Filed 7-6-18; 8:45 am]

BILLING CODE 3810-FF-P